DEPARTMENT OF AGRICULTURE

Animal and Plant Health Inspection Service

[Docket No. APHIS-2007-0048]

Removal of Emergency Action Notice for Tiffany Creek Preserve in New York

AGENCY: Animal and Plant Health Inspection Service, USDA.

ACTION: Notice.

SUMMARY: We are giving notice that we have lifted restrictions placed on Tiffany Creek Preserve in Nassau County, NY. In 2004, the preserve was put under an Emergency Action Notice after a sample taken from a northern red oak tested positive for Phytophthora ramorum. The preserve was required to undergo biannual surveys for P. ramorum for 2 years, the last of which was conducted in September 2006. The results of all surveys conducted in Tiffany Creek Preserve, Nassau County, and the State of New York were negative. Therefore, we have released Tiffany Creek Preserve from all restrictions related to P. ramorum and consider no further surveys or actions are warranted.

EFFECTIVE DATE: January 25, 2007.

FOR FURTHER INFORMATION CONTACT: Mr. Jonathan M. Jones, Senior Staff Officer, Invasive Species and Pest Management, PPQ, APHIS, 4700 River Road Unit 160, Riverdale, MD 20737-1231; (301) 734-8247.

SUPPLEMENTARY INFORMATION: Phytophthora ramorum is a pathogen that causes the plant diseases commonly known as sudden oak death, ramorum leaf blight, and ramorum dieback. Since its initial discovery in Marin County, CA, in 1995, P. ramorum has been confirmed to exist in 13 additional northern California counties and in a portion of Curry County, OR. P. ramorum has caused the death of thousands of mature oaks in these counties, and there is presently no known treatment for infected plants that kills the fungus but allows plants to survive.

On June 30, 2004, a survey for P. ramorum was conducted at Tiffany Creek Preserve in Nassau County, NY. One of the samples taken during that survey was from a northern red oak tree. The sample was tested using an Animal and Plant Health Inspection Service (APHIS) nested polymerase chain reaction protocol that resulted in reactions that indicated the presence of P. ramorum. The tree was removed and destroyed and APHIS, under the authority of the Plant Protection Act (7 U.S.C. 7701 et seq.), placed the preserve under Emergency Action Notice (EAN) to contain any related risk. Under the EAN, the movement of soil, forest products, wood, and any plant material from the preserve was prohibited. APHIS also required 2 years of biannual surveys of the preserve, including sampling of the soil and water to determine if there were any indications of P. ramorum that could be associated with Tiffany Creek Preserve. In the EAN, we stated that if after 2 years all survey results were negative, the EAN would be lifted.

Delimiting surveys, the last of which was conducted in September 2006, of the Preserve and testing of all unhealthy appearing trees and shrubs yielded no further positive results and no sign of P. ramorum infestation. Surveys of the Preserve and surrounding natural environments in Nassau County and neighboring Suffolk County resulted in no further detections. In New York, no forests or nurseries surveyed have had P. ramorum detected. Therefore, we are giving notice that we have lifted restrictions on Tiffany Creek Preserve and that P. ramorum is known not to occur at Tiffany Creek Preserve and is not known to occur at any other location within Nassau County or the State of New York.

Done in Washington, DC this 5th day of June 2007.
Kevin Shea,
Acting Administrator, Animal and Plant Health Inspection Service.

[FR Doc. E7-11242 Filed 6-8-07; 8:45 am]

BILLING CODE 3410-34-P